DEPARTMENT OF STATE

[Delegation of Authority No. 297]

Delegation by the Secretary of State to the Under Secretary for Arms Control and International Security of Authority To Submit the Annual Report on Moscow Treaty Interpretation

By virtue of the authority vested in me as Secretary of State, including Section 1 of the State Department Basic Authorities Act, as amended (22 U.S.C. 2651a) and Executive Order 13313 of July 31, 2003 (68 FR 45151), I hereby delegate to the Under Secretary for Arms Control and International Security the authority to submit the annual report on the implementation of the Moscow Treaty by the United States and Russian Federation pursuant to Condition (2) of the March 6, 2003, Resolution of Advice and Consent to Ratification of the Treaty Between the United States of America and the Russian Federation on Strategic Offensive Reductions (the Moscow Treaty).

Any act, executive order, regulation or procedure subject to, or affected by, this delegation shall be deemed to be such act, executive order, regulation or procedure as amended from time to time.

Notwithstanding this delegation of authority, the Secretary, the Deputy Secretary, or the Under Secretary for Policy may at any time exercise any authority or function delegated by this delegation of authority.

This delegation of authority shall be published in the Federal Register.

Dated: October 25, 2006.
Condoleezza Rice,
Secretary of State, Department of State.

Editorial Note: This document was received at the Office of the Federal Register on March 21, 2007.

[FR Doc. E7-5489 Filed 3-23-07; 8:45 am]

BILLING CODE 4710-10-P